DEPARTMENT OF VETERANS AFFAIRS

Privacy Act of 1974; System of Records

AGENCY: Department of Veterans Affairs.

ACTION: Notice of Amendment of System of Records Notice “Veterans Tracking Application (VTA).”(163VA 005Q3).

SUMMARY: As required by the Privacy Act of 1974 (5 U.S.C. 552a(e)(4), (11)), notice is hereby given that the Department of Veterans Affairs (VA) is amending the system of records entitled “Veterans Tracking Application (VTA).” VA is amending the system of records by revising the System Name to “Veterans Tracking Application (VTA)/Federal Case Management Tool (FCMT)” and System Location to include the “Federal Case Management Tool (FCMT).” The VTA data will also be accessed using the FCMT. Further, the Routine Uses have been updated in conjunction with VA's Virtual Lifetime Electronic Record (VLER), to reflect the nature of electronic coordination that will fully support the users of this application. VA is republishing the system notice in its entirety.

DATES: Comments on this amended system of records must be received no later than May 21, 2012. If no public comment is received during the period allowed for comment or unless otherwise published in the Federal Register by VA, the amended system will become effective May 21, 2012.

ADDRESSES: Written comments concerning the proposed amended system of records may be submitted through www.Regulations.gov; by mail or hand-delivery to Director, Regulations Management (02REG), Department of Veterans Affairs, 810 Vermont Avenue NW., Room 1068, Washington, DC 20420; by fax to (202) 273-9026. All comments received will be available for public inspection in the Office of Regulation Policy and Management, Room 1063B, between the hours of 8 a.m. and 4:30 p.m., Monday through Friday (except holidays). Please call (202) 273-9515 for an appointment. In addition, during the comment period, comments may be viewed online through the Federal Docket Management System (FDMS) at www.Regulations.gov.

FOR FURTHER INFORMATION CONTACT: Dick Rickard, Program Manager VTA/FCMT, Office of Information & Technology, Department of Veterans Affairs, 810 Vermont Ave. NW., Washington, DC 20420, (352) 686-3227.

SUPPLEMENTARY INFORMATION: The VTA/FCMT and associated databases support VA enterprise wide. The VTA/FCMT provides the VA tracking information on members of the armed forces who are receiving care from a Department of Defense (DoD) Military Treatment Facility (MTF), a VA health care facility, or who already have Veteran status. The VTA/FCMT provides tracking of the Veteran/Servicemember's arrival at the initial VA health care facility and provides date and location information for subsequent transfers to other health facilities. In addition, VTA/FCMT obtains data about patient history from the imported DoD Theater Medical Data Store (TMDS). In addition to the Veteran patient population, VTA/FCMT records benefit tracking information for all severely injured Veterans requesting benefits. This history includes all benefit award details to include application dates, award decisions, dates and amounts. VTA/FCMT also tracks Servicemembers and Veterans disability claims through the Integrated Disability Eligibility System (IDES) module. The purpose of the VTA/FCMT is to track the initial arrival of a Servicemember into the VA health system and their subsequent movement among VA health facilities, as well as monitor benefits application and administration details.

In this system of records the System Name is amended to reflect the integration of VTA and FCMT. The Purpose in this system of records is being amended to reflect the additional System Location of the FCMT primary and secondary database locations. The routine uses added with this amendment to the system of records notice are: Routine use (5): VA may disclose identifying information, including Social Security number, concerning Veterans, spouses of Veterans, and the beneficiaries of Veterans to other Federal agencies for the purpose of conducting computer matches to obtain information to determine or verify eligibility of Veterans receiving VA medical care under Title 38, United States Code (U.S.C.), (6) VA may disclose relevant health care information regarding individuals treated under 38 U.S.C. 8111A to the DoD, or its components, for the purpose deemed necessary by appropriate military command authorities to assure proper execution of the military mission, and (7) VA may disclose health care information as deemed necessary and proper to Federal, state, and local government agencies and national health organizations in order to assist in the development of programs that will be beneficial to claimants, to protect their rights under law, and assure that they are receiving all benefits to which they are entitled.

The notice of amendment and an advance copy of the system notice have been sent to the appropriate Congressional committees and to the Director of Office of Management and Budget (OMB) as required by 5 U.S.C. 552a(r) (Privacy Act) and guidelines issued by OMB (65 FR 77677), December 12, 2000.

Approved: March 26, 2012.
John R. Gingrich,
Chief of Staff, Department of Veterans Affairs.

(163VA005Q3)

SYSTEM NAME:

“Veterans Tracking Application (VTA)/Federal Case Management Tool (FCMT).”

SYSTEM LOCATION:

The VTA system containing its associated records is maintained at the Austin Information Technology Center (AITC) at 1615 East Woodward Street, Austin, Texas 78772. The FCMT system containing its associated records is maintained at the Terremark Worldwide computing facility located at 18155 Technology Blvd., Culpeper, VA 22701-3805. A second VTA database with an identical set of records is being established at a disaster recovery site at the Hines Information Technology Center (Hines ITC) at Hines, Illinois. All records are maintained electronically. A second FCMT application and database is being established at a disaster recovery site at Terremark's backup site in Miami, Florida.

CATEGORIES OF INDIVIDUALS COVERED BY THE SYSTEM:

The category of the individuals covered by the VTA/FCMT database encompasses Veterans, Servicemembers, civilians working in combat zones and their dependents. This would include current Servicemembers, separated Servicemembers, and their dependents; as well as Veterans whose Veterans Affairs (VA) military service benefits have been sought by others (e.g., burial benefits).

CATEGORIES OF RECORDS IN THE SYSTEM:

The record, or information contained in the record, may include identifying information (e.g., name, contact information, Social Security number), association to dependents, cross reference to other names used, military service participation and status information (branch of service, rank, enter on duty date, release from active duty date, military occupations, type of duty), reason and nature of active duty separation (completion of commitment, disability, hardship, etc.), combat/environmental exposures (combat pay, combat awards, theater location), combat deployments (period of deployment, location/country), Guard/Reserve activations (type of activation), military casualty/disabilities (line of duty death, physical examination board status, serious/very serious injury status, recovery plans, DoD rated disabilities), benefit participation, eligibility and usage, and VA compensation (rating, award amount).

AUTHORITY FOR MAINTENANCE OF THE SYSTEM:

The authority for maintaining this system is Title 38 U.S.C., 5106.

PURPOSE:

With our Nation's Veterans returning from long wartime engagements, it is of utmost importance that VA implements a streamlined care management solution. VTA/FCMT will work to replace manual processes that result in delays in coordinating or managing care for our Veterans. VTA/FCMT and the associated database support programs throughout the VA. The VTA/FCMT provides the VA tracking information on members of the armed forces who are receiving care from a DoD MTF, a VA health care facility, or who already have Veteran status. The VTA/FCMT provides tracking of the Veteran/Service member's arrival at the initial VA health care facility and provides date and location information for subsequent transfers to other health facilities. In addition, VTA/FCMT obtains data about patient history from the imported DoD Theater Medical Data Store (TMDS). In addition to the Veteran patient population, VTA/FCMT records benefit tracking information for all severely injured Veterans requesting benefits. This history includes all benefit award details to include application dates, award decisions, dates and amounts. VTA/FCMT also tracks Servicemembers and Veterans disability claims through the Integrated Disability Eligibility System (IDES) module. The purpose of the VTA/FCMT is to track the initial arrival of a Servicemember into the VA and DoD health care systems and their subsequent movement among VA health facilities, as well as monitor benefits application and administration details.

The records and information may be used for analysis to produce various management, workload tracking, and follow-up reports for our Veterans; to track and evaluate the ordering and delivery of services and patient care; for the planning, distribution and utilization of resources; and to allocate clinical and administrative support to patient medical care.

In addition, the data may be used to assist in workload allocation for patient treatment services including provider panel management, nursing care, clinic appointments, surgery, prescription processing, diagnostic and therapeutic procedures; to plan and schedule training activities for employees; for audits, reviews and investigations conducted by the network directors office and VA Central Office; for quality assurance audits, reviews and investigations; for law enforcement investigations; and for personnel management, evaluation and employee ratings, and performance evaluations.

ROUTINE USES OF RECORDS MAINTAINED IN THE SYSTEM, INCLUDING CATEGORIES OF USERS AND THE PURPOSES OF SUCH USES:

The record of an individual included in this system may be provided to DoD systems or offices for use in connection with matters relating to one of DoD's programs to enable delivery of healthcare or other DoD benefits to eligible beneficiaries.

The name, address, VA file number, effective date of compensation or pension, current and historical benefit pay amounts for compensation or pension, service information, date of birth, competency payment status, incarceration status, and Social Security number of Veterans and their surviving spouses or dependents may be disclosed to the approved VA and DoD office/systems to reconcile the disability claims, benefits awards, and patient data.

The name(s) and address(es) of a Veteran may be disclosed to another Federal agency or to a contractor of that agency, at the written request of the head of that agency or designee of the head of that agency for the purpose of conducting government research necessary to accomplish a statutory purpose of that agency.

VA may disclose on its own initiative any information in this system, except the names and addresses of Veterans and their dependents, that is relevant to a suspected or reasonably imminent violation of law, whether civil, criminal, or regulatory in nature and whether arising by general or program statute or by regulation, rule, or order issued pursuant thereto, a Federal, state, local, tribal, or foreign agency charged with the responsibility of investigating or prosecuting such violation, or charged with enforcing or implementing the statute, regulation, rule, or order. VA may also disclose on its own initiative the names and addresses of Veterans and their dependents to a Federal agency charged with the responsibility of investigating or prosecuting civil, criminal, or regulatory violations of law, or charged with enforcing or implementing the statute, regulation, rule, or order issued pursuant thereto.

VA may disclose identifying information, including Social Security number, concerning Veterans, spouses of Veterans, and the beneficiaries of Veterans to other Federal agencies for the purpose of conducting computer matches to obtain information to determine or verify eligibility of Veterans receiving VA medical care under Title 38, U.S.C.

VA may disclose relevant health care information regarding individuals treated under 38 U.S.C. 8111A to DoD, or its components, for the purpose deemed necessary by appropriate military command authorities to assure proper execution of the military mission.

VA may disclose health care information as deemed necessary and proper to Federal, state, and local government agencies and national health organizations in order to assist in the development of programs that will be beneficial to claimants, to protect their rights under law, and assure that they are receiving all benefits to which they are entitled.

VA may disclose information in the system of records to the Department of Justice (DOJ), either on VA's initiative or in response to DOJ's request for the information, after either VA or DOJ determines that such information is relevant to DOJ's representation of the United States or any of its components in legal proceeding before a court or adjudicative body, provided that, in each case, the agency also determines prior to disclosure that release of records to the DOJ is a use of information contained in the records that is compatible with the purpose for which VA collected the records. VA, on its own initiative, may disclose records in this system of records in legal proceedings before a court or administrative body after determining that the disclosure of the records to the court or administrative body is a use of the information contained in the records that is compatible with the purpose for which VA collected the records.

VA may disclose information to assist a person or entity responsible for the licensing, supervision, or professional discipline of the person or organization acting as representative. Names and home addresses of Veterans and their dependents will be released on VA's initiative under this routine use only to Federal entities when VA believes that the names and addresses are required by the Federal department or agency.

Disclosure of relevant information may be made to individuals, organizations, private or public agencies, or other entities or individuals with whom VA has a contract or agreement to perform such services as VA may deem practicable for the purposes of laws administered by VA, in order for the contractor, subcontractor or entity or individual with whom VA has an agreement or contract to perform the services of the contract or agreement.

VA may on its own initiative disclose information or records to appropriate agencies, entities, and persons when (1) VA suspects or confirmed that the integrity or confidentiality of information in the system of records has been compromised; (2) VA has determined that as a result of the suspected or confirmed compromise there is a risk embarrassment or harm to the reputations of the records subjects, harm to economic or property interest, identity theft or fraud, or harm to the security, confidentiality or integrity of this system or other systems or programs (whether maintained by VA or another agency or entity) that rely upon the potentially compromised information; and (3) the disclosure is made to such agencies, entities, and persons whom VA determines are reasonably necessary to assist in or carry out VA's efforts to respond to the suspected or confirmed compromise and prevent, minimize, or remedy such harm. This routine use permits disclosures by VA to respond to a suspected or confirmed data breach, including the conduct of any risk analysis or provision of credit protection services as provided in 38. U.S.C. 5724, as the terms are defined in 38 U.S.C. 5727.

Disclosure to other Federal agencies may be made to assist such agencies in preventing and detecting possible fraud or abuse by individuals in their operations and programs.

The record of an individual who is covered by a system of records may be disclosed to a Member of Congress, or a staff person acting for the member, when the member or staff person requests the record on behalf of and at the written request of the individual.

Disclosure may be made to the National Archives and Records Administration or the General Services Administration in records management inspections conducted under authority of Chapter 29 of Title 44 U.S.C.

Any information in this system of records may be disclosed, in the course of presenting evidence in or to a court, magistrate, administrative tribunal, or grand jury, including disclosures to opposing counsel in the course of such proceedings or in settlement negotiations.

POLICIES AND PRACTICES FOR STORING, RETRIEVING, ACCESSING, RETAINING, AND DISPOSING OF RECORDS IN THE SYSTEM STORAGE:

STORAGE:

Records are transmitted between approved VA and DoD office/systems and VTA/FCMT over secure telecommunications (i.e. SFTP, secure web services) using approved encryption technologies. Records (or information contained in records) are maintained in electronic format in the VTA/FCMT database. Information from VTA/FCMT is disseminated in three ways: (1) Approved VA and DoD systems electronically request and receive data from VTA/FCMT over the internal VA and DoD network; (2) data is provided over the secure telecommunications between VTA/FCMT and approved VA and DoD office/systems for reconciliation of records; (3) periodic electronic data extracts of subsets of information contained in VTA/FCMT are provided to approved VA and DoD offices/systems over the internal VA network and DoD network. Backups of VTA/FCMT data are created regularly and stored in a secure off-site facility.

RETRIEVABILITY:

Electronic files are retrieved using various unique identifiers belonging to the individual to whom the information pertains to include such identifiers as name, claim file number, Social Security number and date of birth.

SAFEGUARDS:

1. Physical Security: The primary VTA system is located in the AITC and the backup disaster recovery system is located in the Hines ITC. The primary FCMT system is located at Terremark Worldwide facility located in Culpeper, Virginia and the backup disaster recovery system is located at Terremark's backup site in Miami, Florida. Access to data processing centers is generally restricted to center employees, custodial personnel, Federal Protective Service and other security personnel. Access to computer rooms is restricted to authorized operational personnel through electronic passage technology. All other persons needing access to computer rooms are escorted.

2. System Security: Access to the VA network is protected by the usage of “logon” identifications and passwords. Once on the VA network, separate ID and password credentials are required to gain access to the VTA/FCMT server and/or database. Access to the server and/or database is granted to only a limited number of system administrators and database administrators. In addition VTA/FCMT has undergone certification and accreditation. Users of VTA access the system via the approved Veterans Information Portal (VIP). Users must register first through the VIP Portal and obtain a username and password. Upon approval of a VIP account, they may request access to VTA through an electronic form accessible via VIP. Users of FCMT access the system via the approved VA Trusted Internet Connection or through the VA's Virtual Private Network. Users must have accounts in the VA's Active Directory (AD) system. Upon approval of a VA AD account, they may request access to FCMT. Within the VTA/FCMT system, users are designated a role which determines their access to specific data. Based on a risk assessment that followed National Institute of Standards and Technology Vulnerability and Threat Guidelines, the system is considered stable and operational. VTA has received a final Authority to Operate (ATO) and FCMT currently holds a temporary ATO which is currently in process to become permanent. The system was found to be operationally secure, with very few exceptions or recommendations for change.

RETENTION AND DISPOSAL:

VA retains selected information for purposes of making eligibility determinations for VA benefits. The information retained may be included in the VA records that are maintained and disposed of in accordance with the appropriate record disposition authority approved by the Archivist of the United States.

SYSTEM MANAGER(S) AND ADDRESSES:

Program Manager, Office of Information & Technology, Department of Veterans Affairs (005), 810 Vermont Avenue NW., VA Central Office, Washington, DC 20420.

NOTIFICATION PROCEDURES:

Individuals seeking information on the existence and content of a record pertaining to them should contact the system manager, in writing, at the above address. Requests should contain the full name, address and telephone number of the individual making the inquiry.

RECORD ACCESS PROCEDURE:

(See notification procedure above.)

CONTESTING RECORD PROCEDURES:

(See notification procedure above.)

RECORD SOURCE CATEGORIES:

Information in this system of records is provided by components of the Department of Defense and Department of Veterans Affairs.

[FR Doc. 2012-9421 Filed 4-18-12; 8:45 am]

BILLING CODE 8320-01-P